DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

National Evaluation of the Comprehensive Community Mental Health Services for Children and Their Families Program, Phase Two—(OMB No. 0930-0192, Revision)—SAMHSA's Center for Mental Health Services (CMHS) is conducting Phase II of this national evaluation project. Phase II collects data on child mental health outcomes, family life, and service system development and performance. Child and family outcomes of interest include the following: child symptomatology and functioning, family functioning and material resources, and caregiver strain. Delivery system variables of interest include the following: system of care development, adherence to system of care principles, coordination and linkages among agencies, and congruence between services planned versus those received.

To address the research questions in the national evaluation, a longitudinal quasi-experimental design is being used that includes data collection in all grantee sites and comparison sites (where services are delivered in a more traditional manner). This multi-level evaluation is comprised of several major components. Data collection methods include interviews with caregivers and youth, site visits, case record reviews, service diaries, and provider surveys.

Data collection for this evaluation will be conducted over a six-year period. The length of time that families will participate in the study ranges from 18 to 36 months depending on when they enter the evaluation. The average annual respondent burden is estimated below; this represents an annual average burden reduction of 6,237 hours from the level currently approved by the Office of Management and Budget.

This revision to the currently approved data collection activities involves: (1) Reducing the number of sites where data collection will occur from 27 to 25, (2) extending the time frame for data collection by an additional 18 months, (3) adding a treatment effectiveness study in two sites including assessment of outcomes, treatment fidelity, and interaction of the treatment with the larger system of care, (4) adding a survey of clinicians/practitioners on their use of evidence-based treatments, and (5) adding a study of how systems of care are sustained after program funding ends.

Instrument | Respondent | Number of respondents | Average number of total responses/respondent | Hours per response | Total burden hours | Annual burden hours
System-level Assessment:
Interview Guides and Data Collection Forms—Round One Sites | Key site informants | ¹ 325 | ² 5 | 1.000 | 1,625 | 250
Interview Guides and Data Collection Forms—Round Two Sites | Key site informants | ¹ 350 | ² 4 | 1.000 | 1,400 | 215
Services and Costs Study:
No respondent burden is associated with this study | na | na | na | na | na | na
Cross-sectional Descriptive Study:
Descriptive Interview Questionnaire (DIQ) | Caregiver | ³ 5,550 | ⁴ 6 | 0.166 | 5,528 | 850
Child and Family Outcome Study:
Restrictiveness of Living Environment and Placement Stability Scale (ROLES) | Caregiver | 5,550 | 6 | 0.083 | 2,764 | 425
Child and Adolescent Functional Assessment Scale (CAFAS)—subscales or Preschool and Early Childhood Functional Assessment Scale (PECFAS) | Caregiver | 5550 | 6 | 0.333 | 11,089 | 1,706
Education Questionnaire (EQ)—formerly one of the CAFAS subscales | Caregiver | 5,550 | 6 | 0.166 | 5,528 | 850
Behavioral and Emotional Rating Scale (BERS) | Caregiver | 5,550 | 6 | 0.166 | 5,528 | 850
Child Behavior Checklist (CBCL) or CBCL Ages 2-3 | Caregiver | 5,550 | 6 | 0.333 | 11,089 | 1,706
Family Assessment Device (FAD) | Caregiver | 5,550 | 6 | 0.166 | 5,528 | 850
Family Resource Scale (FRS) | Caregiver | 5,550 | 6 | 0.166 | 5,528 | 850
Caregiver Strain Questionnaire (CGSQ) | Caregiver | 5,550 | 6 | 0.166 | 5,528 | 850
Delinquency Survey (formerly one of CAFAS subscales) | Youth | ⁵ 3,330 | 6 | 0.083 | 1,658 | 255
Substance Abuse Survey A and B (formerly one of CAFAS subscales) | Youth | 3,330 | 6 | 0.166 | 3,317 | 510
Youth Self-Report (YSR) | Youth | 3,330 | 6 | 0.333 | 6,653 | 1,024
Family Assessment Device (FAD) | Youth | 3,330 | 6 | 0.166 | 3,317 | 510
Intervention-level Assessment:
Family Satisfaction Questionnaire—Abbreviated (FSQ-A) | Caregiver | 5,550 | ⁶ 4 | 0.116 | 2,575 | 396
Multi-sector Service Contacts (MSSC) | Caregiver | 5,550 | 4 | 0.250 | 5,550 | 854
Service Experience Questionnaire (SEQ) | Caregiver | ⁷ 1,012 | 4 | 0.333 | 1,348 | 207
Experience with Service System Questionnaire (ESSQ) | Caregiver | 1,012 | 4 | 0.250 | 1,012 | 156
Service and Support Diary and Interview | Caregiver | ⁸ 200 | ⁹ 9 | 0.500 | 900 | 138
Youth Satisfaction Questionnaire—Abbreviated (YSQ-A) | Youth | 3,330 | 4 | 0.083 | 1,106 | 170
Service Experience Questionnaire (SEQ) | Youth | 607 | 4 | 0.250 | 607 | 93
Provider Service Log and Interview | Provider | ¹⁰ 200 | 9 | 0.500 | 900 | 138
Provider Attitudes and Practices Survey (PAPS) | Provider | ¹¹ 480 | ¹² 2 | 0.166 | 159 | 25
Treatment Effectiveness Study:
Diagnostic Interview Schedule for Children | Caregiver | ¹³ 300 | 1 | 0.500 | 150 | 23
DSM-IV Structured Interview for Disruptive Behavior Disorders | Caregiver | 300 | ¹⁴ 4 | 0.166 | 199 | 31
Eyberg Child Behavior Inventory (ECBI) | Caregiver | 200 | 4 | 0.166 | 133 | 20
Dyadic Parent-Child Ineteraction Coding System II (DPICS-II) | Caregiver | 200 | ¹⁵ 2 | 0.250 | 100 | 15
Dyadic Parent-Child Interaction Coding System II (DPICS-II) | Child | 200 | ¹⁵ 2 | 0.250 | 100 | 15
Sutter-Eyberg Student Behavior Inventory-Revised (SESBI-R) | Teacher | 200 | 4 | 0.166 | 133 | 20
PCIT Caregiver Integrity Checklist | Caregiver | 100 | 12 | 0.050 | 60 | 9
PCIT Therapist Integrity Checklist | Clinician | 100 | 12 | 0.050 | 60 | 9
Caregiver Session Review Form | Caregiver | 200 | 12 | 0.033 | 79 | 12
Therapist Session Review Form | Clinician | 200 | 12 | 0.033 | 79 | 12
Therapy Procedures Checklist (TPC) | Caregiver | 200 | 1 | 0.083 | 17 | 3
Therapy Procedures Checklist (TPC) | Clinician | 200 | 1 | 0.166 | 33 | 5
System of Care Practice Review (SOCPR) | Caregiver | 60 | 1 | 1.000 | 60 | 9
System of Care Practice Review (SOCPR) | Child | 60 | 1 | 0.750 | 45 | 7
System of Care Practice Review (SOCPR) | Clinician | 60 | 1 | 1.000 | 60 | 9
System of Care Practice Review (SOCPR) | Informal Helper | 60 | 1 | 0.250 | 15 | 2
Evidence-based Treatment Survey:
Evidence-based Treatment Survey | Clinicians | 1,000 | 1 | 0.250 | 250 | 38
Sustainability Survey:
Sustainability Survey (Web survey) | Local Site Informants | ¹⁶ 204 | 1 | 0.750 | 153 | 23
Sustainability telephone follow-up interview | Local site and State-level Informants | ¹⁷ 153 | 1 | 1.000 | 153 | 24
Total |  |  |  |  | 92,116 | 14,164
¹ An average of 25 stakeholders per grantee site. Round One has 11 grantee sites (some grantees have multiple service sites that are assessed) and two comparison sites. Round Two has 14 grantee sites (no multiple sites) and no comparison sites. These stakeholders will include site administrative staff, providers, agency representatives, and family representatives.
² Round One sites participate in system assessment site visits annually. Round Two sites are assessed every 18 months.
³ Number of respondents across 23 grantees and 2 comparison sites. Average based on a 5 percent attrition rate at each data collection point. These data are collected as part of the grantees' routine intake processes. Hence, burden is calculated only for the subset of the Cross-sectional Descriptive Study sample that also participates in the Child and Family Outcome Study.
⁴ Average number of responses per respondent based on 7 data collection points for children recruited in year 2, 6 for children recruited in year 3, and 4 for children recruited in year 5 (of grantee funding).
⁵ Based on Phase I finding that approximately 60 percent of the children in the evaluation were 11 years old or older.
⁶ Based on an average length of time in services of 18 months, respondents will complete satisfaction and service measures at intake, 6-month, 12-month, and 18-month data collection points.
⁷ Includes respondents in 2 grantee and 2 comparison sites.
⁸ Based on 50 families each from 2 grantee and 2 comparison sites.
⁹ Data collection will occur once at baseline and then biweekly for 16 weeks.
¹⁰ Providers of 50 families each from 2 grantee and 2 comparison sites.
¹¹ An estimated 120 providers each from 2 grantee and 2 comparison sites will complete the survey.
¹² Data collection will be conducted in years 5 and 6 (of grantee funding).
¹³ Assumes that one-third of children screened will not meet criteria.
¹⁴ Caregivers will complete at intake, 3-month, 6-month, and 9-month data collection points.
¹⁵ Fifteen minute observation of caregiver-child interaction while engaged in 3 five minute tasks at intake and at 3 months (pre- and post-treatment).
¹⁶ Includes four site level respondents (i.e., current or former project director, key mental health representative, family representative, agency representative) at 51 Phase I and Phase II sites.
¹⁷ Includes two site-level and one state-level respondent for all 51 sites included in the sustainability survey from Phase I and Phase II.

Written comments and recommendations concerning the proposed information collection should be sent within 30 days of this notice to: Allison Herron Eydt, Human Resources and Housing Branch, Office of Management and Budget, New Executive Office Building, Room 10235, Washington, DC 20503.

Dated: October 23, 2002.
Richard Kopanda,
Executive Officer, SAMHSA.

[FR Doc. 02-27558 Filed 10-29-02; 8:45 am]

BILLING CODE 4162-20-P